Title 3—

The President

Proclamation 7269 of January 19, 2000

National Biotechnology Month, 2000

By the President of the United States of America

A Proclamation

As we stand at the dawn of a new century, we recognize the enormous potential that biotechnology holds for improving the quality of life here in the United States and around the world. These technologies, which draw on our understanding of the life sciences to develop products and solve problems, are progressing at an exponential rate and promise to make unprecedented contributions to public health and safety, a cleaner environment, and economic prosperity.

Today, a third of all new medicines in development are based on biotechnology. Designed to attack the underlying cause of an illness, not just its symptoms, these medicines have tremendous potential to provide not only more effective treatments, but also cures. With improved understanding of cellular and genetic processes, scientists have opened exciting new avenues of research into treatments for devastating diseases—like Parkinson's and Alzheimer's, diabetes, heart disease, AIDS, and cancer—that affect millions of Americans. Biotechnology has also given us several new vaccines, including one for rotavirus, now being tested clinically, that could eradicate an illness responsible for the deaths of more than 800,000 infants and children each year.

The impact of biotechnology is far-reaching. Bioremediation technologies are cleaning our environment by removing toxic substances from contaminated soils and ground water. Agricultural biotechnology reduces our dependence on pesticides. Manufacturing processes based on biotechnology make it possible to produce paper and chemicals with less energy, less pollution, and less waste. Forensic technologies based on our growing knowledge of DNA help us exonerate the innocent and bring criminals to justice.

The biotechnology industry is also improving lives through its substantial economic impact. Biotechnology has stimulated the creation and growth of small businesses, generated new jobs, and encouraged agricultural and industrial innovation. The industry currently employs more than 150,000 people and invests nearly $10 billion a year on research and development.

Recognizing the extraordinary promise and benefits of this enterprise, my Administration has pursued policies to foster biotechnology innovations as expeditiously and prudently as possible. We have supported steady increases in funding for basic scientific research at the National Institutes of Health and other science agencies; accelerated the process for approving new medicines to make them available as quickly and safely as possible; encouraged private-sector research investment and small business development through tax incentives and the Small Business Innovation Research program; promoted intellectual property protection and open international markets for biotechnology inventions and products; and developed public databases that enable scientists to coordinate their efforts in an enterprise that has become one of the world's finest examples of partnership among university-based researchers, government, and private industry.

Remarkable as its achievements have been, the biotechnology enterprise is still in its infancy. We will reap even greater benefits as long as we sustain the intellectual partnership and public confidence that have moved biotechnology forward thus far. We must strengthen our efforts to improve science education for all Americans and preserve and promote the freedom of scientific inquiry. We must protect patients from the misuse or abuse of sensitive medical information and provide Federal regulatory agencies with sufficient resources to maintain sound, science-based review and regulation of biotechnology products. And we must strive to ensure that science-based regulatory programs worldwide promote public safety, earn public confidence, and guarantee fair and open international markets.

NOW, THEREFORE, I, WILLIAM J. CLINTON, President of the United States of America, by virtue of the authority vested in me by the Constitution and laws of the United States, do hereby proclaim January 2000 as National Biotechnology Month. I call upon the people of the United States to observe this month with appropriate programs, ceremonies, and activities.

IN WITNESS WHEREOF, I have hereunto set my hand this nineteenth day of January, in the year of our Lord two thousand, and of the Independence of the United States of America the two hundred and twenty-fourth.

wj

[FR Doc. 00-1758

Filed 1-21-00; 10:34 am]

Billing code 3195-01-P